DEPARTMENT OF LABOR

Employment and Training Administration

[TA-W-62,994]

Essex Group, Inc.; a Subsidiary of Superior Essex, Inc. Including On-Site Leased Workers From American Security & Investigation Vincennes, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 21, 2008, applicable to workers of Essex Group, Inc., a subsidiary of Superior Essex, Inc., Vincennes, Indiana. The notice was published in the Federal Register on April 24, 2008 (73 FR 22169).

At the request of the petitioners, the Department reviewed the certification for workers of the subject firm. The workers produce copper and aluminum magnet wire.

New information shows that workers leased from American Security & Investigation were employed on-site at the Vincennes, Indiana location of Essex Group, Inc., a subsidiary of Superior Essex, Inc.

The Department has determined that these workers were sufficiently under the control and in support of the subject firm to be considered leased workers.

Based on these findings, the Department is amending this certification to include workers leased from American Security & Investigation working on-site at the Vincennes, Indiana location of Essex Group, Inc., a subsidiary of Superior Essex, Inc.

The amended notice applicable to TA-W-62,994 is hereby issued as follows:

All workers of Essex Group, Inc., a subsidiary of Superior Essex, Inc., Vincennes, Indiana, including on-site leased workers from American Security & Investigation, Vincennes, Indiana who became totally or partially separated from employment on or after March 4, 2007 through March 21, 2010, are eligible to apply for adjustment assistance under Section 223 of the Trade Act of 1974, and are also eligible to apply for alternative trade adjustment assistance under Section 246 of the Trade Act of 1974.

Signed in Washington, DC, this 20th day of November 2009.
Richard Church,
Certifying Office, Division of Trade Adjustment Assistance.

[FR Doc. E9-29506 Filed 12-10-09; 8:45 am]

BILLING CODE 4510-FN-P